DEPARTMENT OF EDUCATION

[CFDA NO.: 84.033]

Student Financial Assistance; Federal Work-Study Programs

AGENCY: Department of Education.

ACTION: Notice of the closing date for filing the “Institutional Application and Agreement for Participation in the Work-Colleges Program.”

SUMMARY: The Secretary gives notice to institutions of higher education of the deadline for an eligible institution to apply for participation in the Work-Colleges Program and to apply for funding under that program for the 2001-2002 award year (July 1, 2001 through June 30, 2002) by submitting to the Secretary an “Institutional Application and Agreement for Participation in the Work-Colleges Program.”

The Work-Colleges Program along with the Federal Work-Study Program and the Job Location and Development Program are known collectively as the Federal Work-Study programs. The Work-Colleges Program is authorized by part C of title IV of the Higher Education Act of 1965, as amended (HEA).

DATES: To participate in the Work-Colleges Program and to apply for funds for that program for the 2001-2002 award year, an eligible institution must mail or hand-deliver its “Institutional Application and Agreement for Participation in the Work-Colleges Program” to the Department on or before June 18, 2001.

Note: The Department will not accept the form by facsimile transmission. The form must be submitted to the Division of Campus-Based Operations in the Schools Channel at one of the addresses indicated in this notice.

ADDRESSES:

Applications and Agreements Delivered by Mail

An “Institutional Application and Agreement for Participation in the Work-Colleges Program” delivered by mail must be addressed to Mr. Richard Coppage, Division of Campus-Based Operations, Schools Channel, Work-Colleges Program, U.S. Department of Education, Portals Building, Suite 600D, 400 Maryland Ave, SW., Washington, DC 20202-4331. An applicant must show proof of mailing consisting of one of the following: (1) A legibly dated U.S. Postal Service postmark; (2) a legible mail receipt with the date of mailing stamped by the U.S. Postal Service; (3) a dated shipping label, invoice, or receipt from a commercial carrier; or (4) any other proof of mailing acceptable to the Secretary of Education. An institution is encouraged to use certified or at least first class mail.

An institution should note that the U.S. Postal Service does not uniformly provide a dated postmark. Before relying on this method, an institution should check with its local post office.

If an “Institutional Application and Agreement for Participation in the Work-Colleges Program” is sent through the U.S. Postal Service, the Secretary does not accept either of the following as proof of mailing: (1) a private metered postmark, or (2) a mail receipt that is not dated by the U.S. Postal Service.

Institutions that submit an “Institutional Application and Agreement for Participation in the Work-Colleges Program” after the closing date of June 18, 2001, will not be considered for participation or funding under the Work-Colleges Program for award year 2001-2002.

Applications and Agreements Delivered by Hand

If an institution delivers its “Institutional Application and Agreement for Participation in the Work-Colleges Program” by hand, it must deliver the institutional application and agreement to Mr. Richard Coppage, Division of Campus-Based Operations, Schools Channel, Work-Colleges Program, U.S. Department of Education, Portals Building, Suite 600D, 400 Maryland Ave, SW., Washington DC 20202-4331.

Hand-delivered institutional applications and agreements will be accepted between 8 a.m. and 4:30 p.m. (Eastern time) daily, except Saturdays, Sundays, and Federal holidays. An “Institutional Application and Agreement for Participation in the Work-Colleges Program” for the 2001-2002 award year that is delivered by hand will not be accepted after 4:30 p.m. on June 18, 2001.

SUPPLEMENTARY INFORMATION: Under the Work-Colleges Program, the Secretary allocates funds when available for that program to eligible institutions. The Secretary will not allocate funds under the Work-Colleges Program for award year 2001-2002 to any eligible institution unless the institution files its “Institutional Application and Agreement for Participation in the Work-Colleges Program” by the closing date.

To apply for participation and funding under the Work-Colleges Program, an institution must satisfy the definition of “work-college” in section 448(e) of the HEA. The term “work-college” under the HEA means an eligible institution that (1) is a public or private nonprofit institution with a commitment to community service; (2) has operated a comprehensive work-learning program for at least two years; (3) requires all resident students to participate in a comprehensive work-learning program and the provision of services as an integral part of the institution's educational program and as part of the institution's educational philosophy; and (4) provides students participating in the comprehensive work-learning program with the opportunity to contribute to their education and to the welfare of the community as a whole.

Applicable Regulations

The following regulations apply to the Work-Colleges Program:

(1) Student Assistance General Provisions, 34 CFR part 668.

(2) General Provisions for the Federal Perkins Loan Program, Federal Work-Study Program, and Federal Supplemental Educational Opportunity Grant Program, 34 CFR part 673.

(3) Federal Work-Study Programs, 34 CFR part 675.

(4) Institutional Eligibility Under the Higher Education Act of 1965, as amended, 34 CFR part 600.

(5) New Restrictions on Lobbying, 34 CFR part 82.

(6) Governmentwide Debarment and Suspension (Nonprocurement) and Governmentwide Requirements for Drug-Free Workplace (Grants), 34 CFR part 85.

(7) Drug and Alcohol Abuse Prevention, 34 CFR part 86.

FOR FURTHER INFORMATION CONTACT: Mr. Richard Coppage, Division of Campus-Based Operations, Schools Channel, Work-Colleges Program, U.S. Department of Education, Portals Building, Suite 600D, 400 Maryland Ave, SW., Washington DC Telephone (202) 708-4694. Individuals who use a telecommunications device for the deaf (TDD) may call the Federal Information Relay Service (FIRS) at 1-800-877-8339.

Individuals with disabilities may obtain this document in an alternative format (e.g., Braille, large print, audiotape or computer diskette) on request to the contact person listed in the preceding paragraph.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 42 U.S.C. 2756b.

Dated: May 31, 2001.
Greg Woods,
Chief Operating Officer, Office of Student Financial Assistance.

[FR Doc. 01-14384 Filed 6-6-01; 8:45 am]

BILLING CODE 4000-01-U